INTERNATIONAL TRADE COMMISSION

[Investigation No. 337-TA-442]

Certain Closet Flange Rings; Notice of Commission Determination Not To Review an Initial Determination Granting a Motion for Summary Determination and Terminating the Investigation

AGENCY: International Trade Commission.

ACTION: Notice.

SUMMARY: Notice is hereby given that the U.S. International Trade Commission has determined not to review the initial determination (“ID”) of the presiding administrative law judge (“ALJ”) on June 5, 2001, granting a motion for summary determination of non-infringement and terminating the above-captioned investigation with a finding of no violation of section 337 of the Tariff Act of 1930.

FOR FURTHER INFORMATION CONTACT: Timothy P. Monaghan, Esq., Office of the General Counsel, U.S. International Trade Commission, 500 E Street, SW., Washington, DC 20436, telephone 202-205-3152.

SUPPLEMENTARY INFORMATION: The Commission instituted this investigation on December 14, 2000, based on a complainant by Pasco Specialty & Manufacturing Co. (“Pasco”). 65 FR 80454. The sole respondent named in the investigation is Jones Stephens Corporation (“Jones Stephens”). The complaint alleges that respondent Jones Stephens has violated section 337 by importing certain closet flange rings which induce or contribute to the infringement of claims 1-5, 7-9, 11-14 of U.S. Letters Patent 5,890,239 (“the “239 patent), entitled “Method of Reseating a Toilet.”

On April 23, 2001, pursuant to Commission rule 210.18, Jones Stephens filed a motion for summary determination of non-infringement and requested that the investigation be terminated with a finding of no violation of section 337. On June 5, 2001, the ALJ issued an ID (Order No. 7) granting respondent Jones Stephens' motion for summary determination of non-infringement and terminating the investigation.

On June 12, 2001, complainant Pasco filed a petition for review of the ID. On June 15, 2001, respondent Jones Stephens and the Commission's investigative attorney filed responses in opposition to the petition for review.

This action is taken under the authority of section 337 of the Tariff Act of 1930, 19 U.S.C. 1337, and § 210.42 of rules of practice and procedure, 19 CFR § 210.42.

Copies of the public version of the ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). General information concerning the Commission may also be obtained by accessing its Internet server (http://www.usitc.gov). The public record for this investigation may be viewed on the Commission's electronic docket (EDIS-ON-LINE) at http://dockets.usitc.gov/eol/public.

Issued: June 25, 2001.
By order of the Commission.
Donna R. Koehnke,
Secretary.

[FR Doc. 01-16302 Filed 6-27-01; 8:45 am]

BILLING CODE 7020-02-P